DEPARTMENT OF AGRICULTURE

Animal and Plant Health Inspection Service

[Docket No. APHIS-2006-0172]

Interstate Movement of Garbage from Hawaii; Availability of an Environmental Assessment

AGENCY: Animal and Plant Health Inspection Service, USDA.

ACTION: Notice of availability and request for comments.

SUMMARY: We are advising the public that the Animal and Plant Health Inspection Service has prepared an environmental assessment relative to a request to allow the interstate movement of garbage from Hawaii to a landfill in the State of Washington. The environmental assessment documents our review and analysis of the environmental impacts associated with, and alternatives to, the movement of palletized or containerized baled municipal solid waste to three existing ports on the Columbia River via barge and the transfer and transportation of the waste via truck or rail to the landfill. We are making the assessment available to the public for review and comment.

DATES: We will consider all comments that we receive on or before February 18, 2010.

ADDRESSES: You may submit comments by either of the following methods:

• Federal eRulemaking Portal: Go to (http://www.regulations.gov/fdmspublic/component/main?main=DocketDetail&d=APHIS-2006-0172) to submit or view comments and to view supporting and related materials available electronically.

• Postal Mail/Commercial Delivery: Please send two copies of your comment to Docket No. APHIS-2006-0172, Regulatory Analysis and Development, PPD, APHIS, Station 3A-03.8, 4700 River Road Unit 118, Riverdale, MD 20737-1238. Please state that your comment refers to Docket No. APHIS-2006-0172.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Ms. Shannon Hamm, Associate Deputy Administrator, Policy and Program Development, APHIS, 4700 River Road Unit 20, Riverdale, MD 20737-1231; (301) 734-4957.

SUPPLEMENTARY INFORMATION:

Background

The importation and interstate movement of garbage is regulated by the Animal and Plant Health Inspection Service (APHIS) under 7 CFR 330.400 and 9 CFR 94.5 (referred to below as the regulations) in order to protect against the introduction into and dissemination within the United States of plant and animal pests and diseases.

In November 2009, APHIS received a revised petition from Hawaiian Waste Systems, LLC, to transport 150,000 tons of municipal solid waste (MSW) annually in plastic airtight bales that are either palletized or containerized in 20- and 40-foot shipping containers from the State of Hawaii to Roosevelt Regional Landfill in Washington State by any of three methods:

• Barge to Teevin Brother Terminal in Rainier, WA, followed by truck or rail transportation;

• Barge to the Port of Longview, WA, followed by truck or rail transportation; or

• Barge to the Port of Portland, OR, followed by truck or rail transportation.

APHIS had previously prepared a regional programmatic environmental assessment (REA) titled “Regional Movement of Plastic-baled Municipal Solid Waste from Hawaii to Washington, Oregon, and Idaho: Environmental Assessment” (February 2008).¹ The REA evaluated the environmental effects of transporting baled MSW by tug boat and barge across the Pacific Ocean and up the Columbia River. The REA included a general analysis of landfills that could accept MSW in the various States as well as an analysis of environmental effects of transportation via rail or truck from a port on the Columbia River to a MSW landfill. A finding of no significant impact for the February 2008 REA was issued by APHIS in June 2008.

¹ To view the REA and finding of no significant impact, go to (http://www.regulations.gov/fdmspublic/component/main?main=DocketDetail&d=APHIS-2007-0070).

The environmental assessment that we are making available through this notice, titled “Site Specific Environmental Assessment for Hawaiian Waste Management Systems, LLC to Transport Municipal Solid Waste from Hawaii to Roosevelt Regional Landfill” (December 2009), is tiered to the REA and analyzes the site-specific environmental effects of Hawaiian Waste Systems’ revised petition.

We are making the environmental assessment available to the public for review and comment. We will consider all comments that we receive during the comment period (see DATES at the beginning of this notice). The environmental assessment may be viewed on the Internet on the Regulations.gov Web site or in our reading room (see ADDRESSES above for instructions for accessing Regulations.gov and information on the location and hours of the reading room). You may request paper copies of the documents by calling or writing to the person listed under FOR FURTHER INFORMATION CONTACT. Please refer to the title of the document when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS’ NEPA Implementing Procedures (7 CFR part 372).

Done in Washington, DC, this 13th day of January 2010.

Kevin Shea
Acting Administrator, Animal and Plant Health Inspection Service.

[FR Doc. 2010-944 Filed 1-15-10; 1:08 pm]

BILLING CODE 3410-34-S